ENVIRONMENTAL PROTECTION AGENCY

[FRL-7624-2]

Notice of Availability for FY 04 Enforcement and Compliance Assurance Multi-Media Assistance Agreements

AGENCY: Environmental Protection Agency (EPA).

ACTION: Notice.

SUMMARY: The Office of Compliance (OC), within EPA's Office of Enforcement and Compliance Assurance (OECA), is soliciting proposals for states and tribes to support their on-going efforts in state/tribal data system modernization. In particular, the grants will fund technical assistance and technical expertise for states/tribes to ensure that they will be able to accurately transmit water enforcement and compliance data to EPA. Grants will be in the range of $50,000—$200,000. The total number and amount of the awards will depend on the amount of funds available.

DATES: Electronic or hard copy proposals must be received by April 12, 2004. Funding decisions will be made by late May based on the proposals. Applicants selected to receive funds will be required to submit final grant materials (e.g., grant application, certifications, assurances) to the appropriate EPA Region by August 29, 2004.

ADDRESSES: Copies of proposals should be sent to David Piantanida (2222A), U.S. EPA—Ariel Rios South Rm 6149D, 1200 Pennsylvania Avenue, NW., Washington, DC 20460, email: piantanida.david@epa.gov, Tel: (202) 564-8318, Fax: (202) 564-0034; and simultaneously to the appropriate Regional Enforcement Coordinator. This Notice will be posted on the EPA's Office of Enforcement and Compliance Assurance Web site at http://www.epa.gov/compliance/planning/state/grants/stag/index.html

FOR FURTHER INFORMATION CONTACT: David Piantanida at (202) 564-8318.

SUPPLEMENTARY INFORMATION:

I. Eligibility and Authority

Eligible applicants include States, Tribes, Inter-Tribal Consortia, Territories, Local governments, and multi-jurisdictional state organizations. Where a lead state environmental agency exists, applicants should work with and coordinate through, the lead state environmental agency.

EPA expects to award these grants under the Clean Water Act, Section 104. The applicable grant regulations for this grant program are in 40 CFR part 31 for state and local governments and Indian tribes.

Authority to enter into assistance agreements for the purposes described in this Notice are delegated to OECA in EPA Delegation 1-47, Assistance Agreements for Economic, Social Science, Statistical, and Other Research, Development, Studies, Surveys, Demonstrations, Investigations, Public Education Programs, Training, and Fellowships.

Funding priorities must be allowable under 66.709 (Capacity Building Grants and Cooperative Agreements for States and Tribes) of the Catalog of Federal Domestic Assistance (CFDA).

II. Funding

The funds available are from OECA's Multi-Media State and Tribal Assistance Grants (STAG) appropriation. The grants/cooperative agreements should be in the range of $50,000 to $200,000, although proposals below or above that range will be considered. The total number and amount of the awards will depend on the amount of funds available. The U.S. EPA reserves the right to make no awards under this solicitation.

State and tribal matching funds are not required. However, preference will be given to proposals which also make a commitment of state or tribal resources towards the total project cost. This can be state or tribal personnel salary dedicated to the project, cash contribution to the project budget, or other “in kind” contributions. The value of donated or “in-kind” services in the performance of a project should be considered in accordance with OMB Circular A-87, “Cost Principles for State, Local, and Indian Tribal Governments.” Lastly, federal funds cannot generally be used to provide a match or cost-share for other federal projects.

EPA can not predict that additional funds for these focus areas will be available in future years. Therefore, states and tribes should assume that these funds will be available on a one-time only basis and should not propose projects requiring annual funding.

III. Desired Projects

OECA will only consider funding projects for the focus area described below and for projects which can be completed in three years or less. Projects will be evaluated for potential funding based on the extent to which they address the focus area below.

A. Focus Area—Permit Compliance System Modernization (PCS)

In FY2004, OECA will continue its effort in the phased implementation of the Integrated Compliance Information System (ICIS). ICIS will be a consolidated enforcement, compliance and National Pollutant Discharge Elimination System (NPDES) permitting information management system that will provide a single source of information for the national enforcement, compliance and NPDES permitting programs. This new system will reduce burden and duplication by providing a single source of data entry, will improve public access to data, support the development of risk reduction strategies, and will provide states and Regions with a modernized system to meet their program management needs.

The second phase of ICIS is centered around the modernization of PCS which supports the implementation of the Clean Water Act (CWA) NPDES program. PCS has little or no data for major new NPDES requirements, such as Concentrated Animal Feeding Operations (CAFOs) Storm Water, and Sanitory Sewer Overflow (SSO). PCS is being modernized to address these serious data gaps, as well as provide for easy use of and access to the system, use of current information technology, support the Agency's initiative for data integration, and to promote the exchange and sharing of data via the Network and the Agency Central Data Exchange (CDX) with our state partners. The availability of more comprehensive data in a modernized PCS will enhance the Agency's and the states' ability to more effectively manage the CWA NPDES program.

Grant funding will support state/tribal efforts to procure technical assistance and technical expertise to ensure the continued flow of data from states and tribes to OECA modernized systems. Examples of state/tribal technical assistance/expertise activities to be covered include:

• Migration of state/tribal data from the legacy Permit Compliance System (PCS) to the new modernized Integrated Compliance Information System-National Pollutant Discharge Elimination System, (ICIS-NPDES) (e.g., conversion of General Permit data currently in legacy PCS to correspond with the General Permit data requirements of the modernized system);

• Data clean-up to support the state/tribal data conversion from the legacy PCS system to the new ICIS-NPDES; and,

• Activities to support the states/tribes in their move to the full use of ICIS-NPDES (e.g., feasibility study/requirement analysis).

B. Proposal Criteria

All proposals will be evaluated and ranked based on the criteria outlined below. The following three criteria and associated points will be used by EPA to evaluate the proposals:

(a) [20 points] The proposal must describe the existing and/or proposed state/tribal use of the PCS system (e.g., support management of the NPDES program);

(b) [20 points] The proposal must describe how data is currently being entered into PCS;

(c) [60 points] Proposals must clearly identify the states/tribes activities to be performed that will ensure data entry and/or data flow of NPDES information to the new ICIS-NPDES and to meet EPA's modernized system, and/or new, data requirements. Examples of modernization activities include data migration, data conversion, and analyses or studies to support the state's full use of the modernized system.

C. Past Performance

In addition to the above criteria, EPA will also consider past performance of a grantee under this grant program (e.g., timely and complete quarterly/semi-annual reports, results/outcomes are apparent during the project, final reports are timely and complete). Where there are two proposals that have been ranked equally, the applicant with better past performance will win. If a grantee should have no record under this program, they will not be unfairly penalized.

D. Other EPA Funding Opportunity—Office of Environmental Information—The Exchange Network

Applicants may also be interested in related efforts by EPA and its State/Tribe/Territory partners to develop the Environmental Information Exchange Network. The Exchange Network is an Internet- and standards-based, secure information systems network which will support the electronic storage and collection of high-quality data, provide real-time access to environmental data, and help users integrate data from many different sources. The Exchange Network Grant Program provides funding to States, Tribes, and Territories to support the development of Exchange Network nodes and data flows. The deadline for submitting pre-proposals for the FY 2004 Exchange Network Grant Program was February 3, 2004, but EPA expects to continue the program in FY 2005, provided appropriations for the program become available. In FY 2005, EPA plans to highlight ICIS-NPDES as one of the key Exchange Network data flows. For more information about the types of ICIS-NPDES activities that may be supported in the future, please refer to the FY 2004 Exchange Network Grant Program Guidance (http://www.epa.gov/Networkg, click on Guidance Document, and go to Section VIII: Systems Information). For further information about the Exchange Network Grant Program, please contact Rebecca Moser at (202) 566-1679.

IV. Process and Schedule

Electronic proposals must be received by EPA by April 12, 2004 and should follow the format below. Proposals should be submitted simultaneously to the appropriate Regional Enforcement Coordinator, and to David Piantanida, OECA, (See contact information below). Funding decisions will be made by late May, 2004 based on the proposals. Applicants selected to receive funds will be required to submit a final grant package electronically by August 29, 2004. Regions will provide final application materials to selected applicants.

FOIA, CBI, and Enforcement Screening: Applicants should be aware that proposals submitted under this or any other EPA grant program are subject to the Freedom of Information Act (FOIA). This means that anyone can request and receive copies of all the information submitted in your grant proposal. If your application contains any Confidential Business Information (CBI), be sure to highlight it so the confidentiality can be protected in the event of a FOIA request.

Proposed Milestones for 2004 OECA Multi Media Assistance Agreements

April 12 Electronic Proposals due simultaneously to the appropriate EPA Regional Enforcement Coordinator, and David Piantanida, (OECA) (See contact information below).

Late May EPA notifies all applicants (selected and non-selected) via e-mail of funding decisions.

Mid June Selected recipients receive final application materials from EPA Regional office. Regional Project Officer and Regional Grants Contact are identified.

August 29 Final Proposals and Grant Applications are due to Regional Project Officer, Regional Grant Contact, and David Piantanida, (OECA).

Late September Grants are awarded

V. Format for Proposals

Proposals should not exceed 12 pages and follow the format below: (12 point font, on 8½ by 11 inch paper)

A. Project Information:

State/Tribe and Department:

Title of Project:

Focus Area: (from Notice of Availability).

Total Funds Requested from EPA:

Total Project Cost (including state/tribe cash and in-kind contributions):

Contact Person: (name, title, address, phone, fax, & email).

Preferred Assistance Agreement: (Grant or cooperative agreement).

B. Summary:

• Summary of the problem being addressed;

• Summary of project goal(s);

• Summary of project components;

• Summary of how the project components will address the problem & attain the goals.

C. Summary Work Plan:

• Proposed activities—list and describe activities and how they relate to the proposal criteria;

• Measures—how will the success of the project be measured? Include both output and environmental outcome measures;

• Sharing results—how will the results of the project be shared across states/tribes?

D. Project Milestones:

• List project milestones with estimated dates, including estimated duration of project.

E. Project Costs:

• Include a detailed itemized budget for all project costs—distinguish the funds requested from any state/tribe contributions (in kind or other).

VI. Reports

Awarded recipients will be required to submit semi-annual and final progress reports to their project officer and to David Piantanida at the address below. A template reporting form will be e-mailed to all recipients. Recipients will also be required to complete annual financial status reports. All reports must be prepared in either Word or Wordperfect formats and delivered electronically to the appropriate project officer and to David Piantanida.

VII. Contact Information

For more information regarding this process, please contact David Piantanida at the address below: David Piantanida (2222A), US EPA—Ariel Rios South Rm 6149D, 1200 Pennsylvania Avenue, NW., Washington, DC 20460, piantanida.david@epa.gov.

Tel: (202) 564-8318.

Fax: (202) 564-0034.

EPA Regional Contacts

EPA Region I

(Act) Enforcement Coordinator: Joel Blumstein—blumstein.joel@epa.gov

Enforcement Division Director: Stephen Perkins—perkins.stephen@epa.gov

EPA Region II

Enforcement Coordinator: Barbara McGarry—mcgarry.barbara@epa.gov

Enforcement Division Director: Dore LaPosta—laposta.Dore@epa.gov

EPA Region III

Enforcement Coordinator: Samantha Fairchild—fairchild.samantha@epa.gov

EPA Region IV

Enforcement Coordinator: Bruce Miller—miller.bruce@epa.gov

Enforcement Division Director: Mary Kay Lynch— lynch.mary-kay@epa.gov

EPA Region V

Compliance Assistance Coordinator: Linda Mangrum—mangrum.linda@epa.gov

EPA Region VI

Enforcement Coordinator: Connie Overbay—overbay.connie@epa.gov

Enforcement Division Director: Gerald Fontenot—fontenot.gerald@epa.gov

EPA Region VII

Enforcement Coordinator: Althea Moses—moses.althea@epa.gov

EPA Region VIII

Enforcement Coordinator: Eddie Sierra—sierra.eddie@epa.gov

Enforcement Division Director: Carol Rushin—rushin.carol@epa.gov

EPA Region IX

Enforcement Coordinator: Jim Grove—grove.jim@epa.gov

EPA Region X

Enforcement Coordinator: Deborah Flood—flood.deborah@epa.gov

(Act) Enforcement Division Director: Mike Bussell—bussell.Mike@epa.gov

Dated: February 9, 2004.
Lisa Lund,
Acting Director, Office of Compliance.

[FR Doc. 04-3451 Filed 2-17-04; 8: 45 am]

BILLING CODE 6560-50-P